DEPARTMENT OF HEALTH AND HUMAN SERVICES

Centers for Disease Control and Prevention

[Program Announcement 03128]

Development of Medical-Specialty Specific Antimicrobial Resistance Educational Materials—Internet-Based Educational Module; Notice of Availability of Funds

Application Deadline: June 27, 2003.

A. Authority and Catalog of Federal Domestic Assistance Number

This program is authorized under section 301(a) and 317(k)(2) of the Public Health Service Act, (42 U.S.C. 241(a) and 247b(k)(2)), as amended. The Catalog of Federal Domestic Assistance number is 93.283.

B. Purpose

The Centers for Disease Control and Prevention (CDC) announces the availability of fiscal year (FY) 2003 funds for a cooperative agreement program for the Development of Medical-Specialty Specific Antimicrobial Resistance Educational Materials—Internet-Based Educational Module. This program addresses the “Healthy People 2010” focus area Immunization and Infectious Diseases.

The purpose of the program is to develop and evaluate a comprehensive educational program for the medical specialty of Hospitalists that will employ multiple delivery methods, including an electronic educational module, sessions at national meetings, and publications in a specialty-related journal.

Measurable outcomes of the program will be in alignment with the following performance goal for the National Center for Infectious Diseases (NCID): Reduce the spread of antimicrobial resistance.

C. Eligible Applicants

Applications may be submitted by public and private nonprofit organizations and by governments and their agencies, that is:

• Public nonprofit organizations.

• Private nonprofit organizations.

• Small, minority, women-owned businesses.

• Universities.

• Colleges.

• Research institutions.

• Hospitals.

• Community-based organizations.

• Faith-based organizations.

• Federally recognized Indian tribal governments.

• Indian tribes.

• Indian tribal organizations.

• State and local governments or their bona fide agents (this includes the District of Columbia, the Commonwealth of Puerto Rico, the Virgin Islands, the Commonwealth of the Northern Marianna Islands, American Samoa, Guam, the Federated States of Micronesia, the Republic of the Marshall Islands, and the Republic of Palau).

• Political subdivisions of States (in consultation with States).

Note: Title 2 of the United States Code section 1611 states that an organization described in section 501(C)(4) of the Internal Revenue Code that engages in lobbying activities is not eligible to receive Federal funds constituting an award, grant or loan.

D. Funding

Availability of Funds

Approximately $70,000 is available in FY 2003 to fund one award. It is expected that the award will begin on or about September 15, 2003 and will be made for a 12-month budget period within a project period of one year. The funding estimate may change.

Recipient Financial Participation

Matching funds are not required for this program.

Funding Preferences

Due to the scope of the project, which seeks to apply effective interventions on a large scale, develop educational materials specifically for Hospitalists, and distribute materials to Hospitalists in an effective manner, funding preference will be given to national organizations that have the medical specialty of Hospitalists as their primary audience.

E. Program Requirements

In conducting activities to achieve the purpose of this program, the recipient will be responsible for the activities listed in 1. Recipient Activities, and CDC will be responsible for the activities listed in 2. CDC Activities.

1. Recipient Activities

a. Recruit and assemble an advisory board.

b. Conduct a needs assessment to determine information gaps among Hospitalists related to antimicrobial resistance.

c. Review existing educational materials and tools on antimicrobial resistance, and modify or create new tools for Hospitalists (with learning objectives) based on needs assessment results.

d. Develop a quality improvement “toolbox” of interventions shown to be successful.

e. Distribute educational materials and the quality improvement “toolbox” through a variety of avenues, including web-based, annual meetings, and journals.

f. Monitor and evaluate the impact of the educational materials and interventions from the “toolbox”. Collect follow up data on the problems of implementing the educational program and “toolbox” interventions, the lessons learned, acceptability to Hospitalists, and antimicrobial resistance incidence at intervention institutions.

g. Assist with data analysis, and preparation of a report or manuscript related to the overall project.

2. CDC Activities

a. Provide the funding recipient with existing CDC antimicrobial resistance educational materials for inclusion in development of educational materials for Hospitalists.

b. Actively participate in the advisory board that oversees the creation and approval of content for the “toolbox” and educational materials.

c. Actively participate in the development of survey and other data collection tools for both the educational materials and the “toolbox” interventions.

d. Assist with data analysis and preparation of a report or manuscript related to the overall project.

e. Assist in the development of a research protocol for Institutional Review Board (IRB) review by all cooperating institutions participating in the research project. The CDC IRB will review and approve the protocol initially and on at least an annual basis until the research project is completed.

F. Content

Applications

The Program Announcement title and number must appear in the application. Use the information in the Program Requirements, Other Requirements, and Evaluation Criteria sections to develop the application content. Your application will be evaluated on the criteria listed, so it is important to follow them in laying out your program plan. The narrative should be no more than 25 pages, double-spaced, printed on one side, with one-inch margins, and unreduced 12-point font.

The narrative should consist of, at a minimum, a Plan, Objectives, Methods, Evaluation and Budget. Additionally, include a one page, single spaced, typed abstract. The heading should include the title of the cooperative agreement, project title, organization, name and address, project director, and telephone number. This abstract should include a work plan identifying activities to be developed, activities to be completed, and a time line for completion of these activities.

G. Submission and Deadline

Application Forms

Submit the signed original and two copies of PHS 5161-1 (OMB Number 0920-0428). Forms are available at the following Internet address: http://www.cdc.gov/od/pgo/forminfo.htm.

If you do not have access to the Internet, or if you have difficulty accessing the forms on-line, you may contact the CDC Procurement and Grants Office Technical Information Management Section (PGO-TIM) at: 770-488-2700. Application forms can be mailed to you.

Submission Date, Time, and Address

The application must be received by 4 p.m. Eastern Time June 27, 2003. Submit the application to: Technical Information Management—PA#03128, CDC Procurement and Grants Office, 2920 Brandywine Road, Atlanta, GA 30341-4146.

Applications may not be submitted electronically.

CDC Acknowledgment of Application Receipt:

A postcard will be mailed by PGO-TIM, notifying you that CDC has received your application.

Deadline

The applications shall be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified objectives of the cooperative agreement. Measures of effectiveness must relate to the performance goals stated in the purpose section of this announcement. Measures must be objective and quantitative and must measure the intended outcome. These measures of effectiveness must be submitted with the application and will be an element of evaluation.

An independent review group appointed by CDC will evaluate the application against the following criteria:

1. Operational Plan (40 total points)

a. The extent to which the applicant presents clear, time-phased objectives that are consistent with the stated program goal and a detailed operational plan outlining specific activities that are likely to achieve the objective. The extent to which the plan clearly outlines the responsibilities of each of the key personnel. (35 points)

b. Does the applicant adequately address the CDC Policy requirements regarding the inclusion of women, ethnic, and racial groups in the proposed research. This includes: (1) The proposed plan for the inclusion of both sexes and racial and ethnic minority populations for appropriate representation; (2) the proposed justification when representation is limited or absent; (3) a statement as to whether the design of proposed studies is adequate to measure differences when warranted; and (4) a statement as to whether the plans for recruitment and outreach for study participants include the process of establishing partnerships with community/ies and recognition of mutual benefits. (5 points)

2. Background and Need (30 points)

The extent to which the applicant demonstrates a strong understanding of developing, distributing, and evaluating educational and interventional tools specifically for the medical specialty of Hospitalists. The extent to which the applicant illustrates the need for this cooperative agreement program. The extent to which the applicant presents a clear goal for this cooperative agreement that is consistent with the described need.

3. Capacity (15 points)

The extent to which the applicant demonstrates that it has the expertise, facilities, and other resources necessary to accomplish the program requirements, including curricula vitae of key personnel and letters of support from any participating organizations/institutions.

4. Evaluation Plan (10 points)

The extent to which the applicant presents a plan for monitoring progress toward the stated goals and objectives.

5. Measures of Effectiveness (5 points)

Does the applicant provide Measures of Effectiveness that will demonstrate the accomplishment of the various identified objectives of the cooperative agreement? Are the measures objective/quantitative and do they adequately measure the intended outcome.

6. Protection of Human Subjects (Not scored)

The extent to which the application adequately addresses the requirements of Title 45 CFR Part 46 for the protection of human subjects. (Not scored; however, an application can be disapproved if the research risks are sufficiently serious and protection against risks is so inadequate as to make the entire application unacceptable.)

7. Budget (Not scored)

The extent to which the applicant presents a detailed budget with a line-item justification and any other information to demonstrate that the request for assistance is consistent with the purpose and objectives of this cooperative agreement program.

I. Other Requirements

Technical Reporting Requirements

Provide CDC with original plus two copies of:

1. Interim progress report, no less than 90 days before the end of the budget period. The progress report will serve as your non-competing continuation application, and must contain the following elements:

a. Current Budget Period Activity Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

Send all reports to the Grants Management Specialist identified in the “Where to Obtain Additional Information” section of this announcement.

Additional Requirements

The following additional requirements are applicable to this program. For a complete description of each, see Attachment I of the program announcement, as posted on the CDC Web site.

AR-1 Human Subjects Requirements.

AR-2 Requirements for Inclusion of Women and Racial and Ethnic Minorities in Research.

AR-7 Executive Order 12372.

AR-9 Paperwork Reduction Act Requirements.

AR-10 Smoke Free Work Place Requirements.

AR-11 Healthy People 2010.

AR-12 Lobbying Restrictions.

AR-15 Proof of Non-Profit Status.

J. Where To Obtain Additional Information

This and other CDC announcements, the necessary applications, and associated forms can be found on the CDC Web site, Internet address: http://www.cdc.gov. Click on “Funding” then “Grants and Cooperative Agreements.”

For general questions about this announcement, contact: Technical Information Management, CDC Procurement and Grants Office, 2920 Brandywine Road, Atlanta, GA 30341-4146, Telephone: 770-488-2700.

For business management and budget assistance, contact: Deborah Workman, Contract Specialist, Procurement and Grants Office, Centers for Disease Control and Prevention, 2920 Brandywine Road, Atlanta, GA 30341-4146, Telephone: 770-488-2085, E-mail Address: atl7@cdc.gov.

For program technical assistance, contact: Rachel Lawton, Division of Healthcare Quality Promotion, National Center for Infectious Diseases, Centers for Disease Control and Prevention, 57 Executive Park Drive South, Room 4048, Atlanta, GA 30333, Telephone: 404-498-1261, Fax: 404-498-1244, E-mail: Rlawton@cdc.gov.

Dated: May 6, 2003.
Sandra R. Manning,
Director, Procurement and Grants Office, Centers for Disease Control and Prevention.

[FR Doc. 03-11868 Filed 5-12-03; 8:45 am]

BILLING CODE 4163-18-P